ENVIRONMENTAL PROTECTION AGENCY

(ER-FRL-6610-3)

Environmental Impact Statements; Notice of Availability

Responsible Agency: Office of Federal Activities, General Information, (202) 260-5073 OR (202) 260-5075.

Weekly receipt of Environmental Impact Statements

Filed August 07, 2000 Through August 11, 2000

Pursuant to 40 CFR 1506.9.

EIS No. 000278, Draft Supplement, AFS, NM, Agua/Caballos Timber Sale, Harvesting Timber and Managing Existing Vegetation, New Information and a New Preferred Alternative, Carson National Forest, EL Rito Ranger District, Arriba County, NM, Due: October 02, 2000, Contact: Kurt Winchester, (505) 581-4554.

EIS No. 000279, Draft EIS, AFS, ID, Swan Flat Timber Sale, Proposal to Cut and Haul Sawtimber, Caribou National Forest, Land Resource Management Plan (LRMP), Montpelier Ranger District, Bear Lake County, ID, Due: October 02, 2000, Contact: Eric Mattson, (208) 847-0375.

EIS No. 000280, Draft EIS, FHW, MO, U.S. Route 50 East-Central Corridor Study, Highway Improvements from Route 50 to Route 63 east of Jefferson City, Major Transportation Investment Analysis, Osage, Gasconade, and Franklin Counties, MO, Due: October 16, 2000, Contact: Don Neumann, (573) 636-7104.

EIS No. 000281, Draft EIS, AFS, AK, Woodpecker Project Area, Timber Harvesting, Dispersed Recreation Opportunities and Watershed Improvements, Implementation, Tongass National Forest, Petersburg Ranger District, Mitkof Island, Petersburg, AK, Due: October 15, 2000, Contact: Cynthia Sever, (907) 772-3871.

EIS No. 000282, Draft EIS, MMS, TX, MS, FL, LA, AL, Programmatic EIS—Proposed Use of Floating Production, Storage and Offloading Systems on the Gulf of Mexico, Outer Continental Shelf, Western and Central Planning Areas, TX, LA, MS, AL and FL, Due: October 20, 2000, Contact: Archie Melancon, (703) 787-1547.

EIS No. 000283, Final EIS, NPS, Shenandoah Valley Battlefields National Historic District Management Plan, Implementation, Augusta, Clarks, Frederick, Highland, Page, Rockingham, Shenandoah and Warren Counties, VA , Due: September 18, 2000, Contact: Jeffrey P. Reinbold, (540) 740-4549.

EIS No. 000284, Draft EIS, GSA, MD, Glen Echo Park Management Plan, Implementation, Town of Glen Echo, Potomac River Valley, part of the George Washington Memorial Parkway, Montgomery County, MD, Due: October 17, 2000, Contact: Audrey Calhoun, (703) 289-2500.

Amended Notices

EIS No. 000217, Draft EIS, FHW, NE, Antelope Valley Study, Implementation of Stormwater Management, Transportation Improvements and Community Revitalization, Major Investment Study, City of Lincoln, Lancaster County, NE, Due: August 29, 2000, Contact: Edward Kosola, (402)

437-5973.

Revision of FR notice published on 06/30/2000: CEQ Comment Date has been Extended from 08/15/2000 to 08/29/2000.

Dated: August 15, 2000.
Joseph C. Montgomery,
Director, NEPA Compliance Division, Office of Federal Activities.

[FR Doc. 00-21113 Filed 8-17-00; 8:45 am]

BILLING CODE 6560-50-U